DEPARTMENT OF HOMELAND SECURITY

Bureau of Citizenship and Immigration Services

Agency Information Collection Activities: Comment Request

ACTION: Request OMB approval; application to extend/change Nonimmigrant Status, Form I-539, (OMB No. 1615-0003).

The Department of Homeland Security (DHS), Bureau of Citizenship and Immigration Services (CIS) has submitted the following information collection request for review and clearance in accordance with the Paperwork Reduction Act of 1995. The proposed information collection is published to obtain comments from the public and affected agencies. Comments are encouraged and will be accepted for sixty days until October 5, 2004.

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumption used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of currently approved collection.

(2) Title of the Form/Collection: Application to Extend/Change Nonimmigrant Status.

(3) Agency form number, if any, and the applicable component of the Department of Homeland Security sponsoring the collection: I-539, Bureau of Citizenship and Immigration Services.

(4) Affected public who will be asked or required to respond, as well as a brief abstract: Primary: Individuals and households. The information collected is required by 8 CFR part 214. This form will be used by nonimmigrants to apply for an extension of stay or for a change to another nonimmigrant classification.

(5) An estimate of the total number of respondents and the amount of time estimated for an average respondent to respond: 261,867 responses at 45 minutes (.75 hours) per response.

(6) An estimate of the total public burden (in hours) associated with the collection: 196,400 annual burden hours.

In additional information is required contact: Mr. Richard A. Sloan, Director, Regulations and Forms Services, Bureau of Citizenship and Immigration Services, Department of Homeland Security, Room 4034, 425 I Street, NW., Washington, DC 20536.

Dated: August 2, 2004.
Stephen Tarragon,
Deputy Department Clearance Officer, Department of Homeland Security.

[FR Doc. 04-17948 Filed 8-5-04; 8:45 am]

BILLING CODE 4410-10-M